DEPARTMENT OF THE INTERIOR

Fish and Wildlife Service

[FWS-R3-R-2008-N00168; 30136-1265-0000-S3]

Seney National Wildlife Refuge, Schoolcraft County, MI

AGENCY: Fish and Wildlife Service, Interior.

ACTION: Notice of availability: draft comprehensive conservation plan and environmental assessment; request for comments.

SUMMARY: We, the U.S. Fish and Wildlife Service (Service), announce the availability of a draft comprehensive conservation plan (CCP) and draft environmental assessment (EA) for Seney National Wildlife Refuge (NWR) for public review and comment. In this draft CCP/EA, we describe how we propose to manage the refuge for the next 15 years.

DATES: To ensure consideration, we must receive your written comments by October 8, 2008. An open house style meeting will be held during the comment period to receive comments and provide information on the draft plan. Special mailings, newspaper articles, Internet postings, and other media announcements will inform people of the meetings and opportunities for written comments.

ADDRESSES: Send your comments or requests for more information by any of the following methods. You may also drop off comments in person at Seney NWR.

• Agency Web site: View or download a copy of the document and comment at http://www.fws.gov/midwest/planning/Seney.

• E-mail: r3planning@fws.gov. Include “Seney Draft CCP/EA” in the subject line of the message.

• Fax: 906-586-3800.

• Mail: Refuge Manager, Seney National Wildlife Refuge, 1674 Refuge Entrance Road, Seney, MI 49883-9501.

FOR FURTHER INFORMATION CONTACT: Tracy Casselman, 906-586-9851 Ext 11.

SUPPLEMENTARY INFORMATION:

Introduction

With this notice, we continue the CCP process for Seney NWR, which was started with the notice of intent we published in the Federal Register on April 21, 2006 (71 FR 20722). For more about the initial process and the history of this refuge, see that notice. Seney NWR was established in 1935 by Executive Order under the Migratory Bird Conservation Act for the protection and production of migratory birds and other wildlife. The Refuge encompasses approximately 95,238 acres; of this area, 25,150 acres comprise the Seney Wilderness Area, in which is contained the Strangmoor Bog National Natural Landmark. The Refuge is also responsible for the 33-acre Whitefish Point Unit, a former Coast Guard Station at Whitefish Point, in Chippewa County.

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other governmental partners, and the public identified several priority issues, which include habitat management, invasive and exotic species, and demand for additional visitor services. To address these issues, we developed and evaluated the following alternatives during the planning process.

Alternative 1, Current Management Direction of Opportunistic Conservation, Restoration, and Preservation (No Action)

The current management direction of Seney NWR would be maintained under this alternative. For NEPA purposes, this is referred to as the “No Action” alternative, a misnomer as some changes will occur over the next 15 years. Management includes conservation, restoration and preservation but occurs opportunistically as budgets allow. Some programs, especially environmental education and outreach, would see improvements only if budgets increase in the future.

Alternative 2: Management Gradient of Conservation Emphasis (Unit 1), to Conservation-Restoration Emphasis (Unit 2), to Restoration-Preservation Emphasis (Unit 3) and Wilderness Preservation (Unit 4) (Preferred Alternative)

Alternative 2 would segment the Refuge into four general units and apply a management strategy to each unit. The units would follow a general gradient of management from low intensity (wilderness) to higher manipulation (managed impoundments and visitor use). Some high and low intensity management actions would occur in all units. Wildlife needs always receive priority when in conflict with visitor services.

Alternative 3: Management to Emphasize Historic Patterns and Processes through Restoration and Preservation (All Anthropogenic Habitats Removed in Units 2 and 3), and Wilderness Preservation (Unit 4)

Alternative 3 would include the Refuge striving to manage its forests and water to allow unfettered succession to take place. Dynamic events such as windstorms, insect and tree disease outbreaks, flooding and wildfire would play a more substantial role in shaping habitats. Natural events may lead to limitation or closure of some exiting visitor use areas or services. However, crucial Refuge infrastructure such as roads and dikes would be protected from or repaired after destructive circumstances.

Public Meeting

We will give the public an opportunity to provide comments at a public meeting. You may obtain the schedule from the addresses listed in this notice (see ADDRESSES). You may also submit comments anytime during the comment period.

Public Availability of Comments

Before including your address, phone number, e-mail address, or other personal identifying information in your comment, you should know that your entire comment—including your personal identifying information—may be made publicly available at any time. While you may ask us in your comment to withhold your personal identifying information from public review, we cannot guarantee that we will be able to do so.

Dated: July 22, 2008.
Charles M. Wooley,
Acting Regional Director, U.S. Fish and Wildlife Service, Fort Snelling, Minnesota.

[FR Doc. E8-20351 Filed 9-2-08; 8:45 am]

BILLING CODE 4310-55-P